NUCLEAR REGULATORY COMMISSION

[Docket No. 50-146]

GPU Nuclear, Inc. and Saxton Nuclear Experimental Corporation; Saxton Facility; Notice of Consideration of Approval of Application Regarding Proposed Merger and Opportunity for a Hearing

The U.S. Nuclear Regulatory Commission (the Commission) is considering the issuance of an order under 10 CFR 50.80 approving the indirect transfer of Facility Amended License No. DPR-4 for the Saxton Facility, held by Saxton Nuclear Experimental Corporation (SNEC) and GPU Nuclear, Inc. (GPUN). The indirect transfer would be to FirstEnergy Corp. (FE), headquartered in Akron, Ohio.

According to a September 26, 2000, application submitted by FE and GPUN, as supplemented by letters dated September 27, November 9, and November 14, 2000, GPU, Inc., the corporate parent of SNEC and GPUN, is planning to be merged with and into FE. FE will remain as the surviving corporation in this transaction. Upon consummating the merger, FE will become a registered holding company under the Public Utility Holding Company Act of 1935, and SNEC and GPUN, currently direct or indirect subsidiaries of GPU, Inc., will become direct or indirect subsidiaries of FE.

No physical changes to the Saxton Facility or operational changes are being proposed in the application. SNEC, the licensed owner of the facility, will continue to be so following the merger, and GPUN, currently the licensee authorized to decommission the facility, will continue to maintain that status after the merger. No direct transfer of the license will result from the planned merger.

Pursuant to 10 CFR 50.80, no license, or any right thereunder, shall be transferred, directly or indirectly, through transfer of control of the license, unless the Commission shall give its consent in writing. The Commission will approve an application for the indirect transfer of a license, if the Commission determines that the underlying transaction that will effectuate the indirect transfer will not affect the qualifications of the holders of the license, and that the transfer is otherwise consistent with applicable provisions of law, regulations, and orders issued by the Commission pursuant thereto.

The filing of requests for hearing and petitions for leave to intervene, and written comments with regard to the license transfer application, are discussed below.

By December 26, 2000, any person whose interest may be affected by the Commission's action on the application may request a hearing and, if not the applicants, may petition for leave to intervene in a hearing proceeding on the Commission's action. Requests for a hearing and petitions for leave to intervene should be filed in accordance with the Commission's rules of practice set forth in Subpart M, “Public Notification, Availability of Documents and Records, Hearing Requests and Procedures for Hearings on License Transfer Applications,” of 10 CFR part 2. In particular, such requests and petitions must comply with the requirements set forth in 10 CFR 2.1306, and should address the considerations contained in 10 CFR 2.1308(a). Untimely requests and petitions may be denied, as provided in 10 CFR 2.1308(b), unless good cause for failure to file on time is established. In addition, an untimely request or petition should address the factors that the Commission will also consider, in reviewing untimely requests or petitions, set forth in 10 CFR 2.1308(b)(1)-(2).

Requests for a hearing and petitions for leave to intervene should be served upon counsel for FE, Roy P. Lessey, Esq., Akin, Gump, Strauss, Hauer, & Feld, L.L.P., 1333 New Hampshire Ave., NW., Suite 400, Washington, DC 20036, (202) 887-4500, (202) 887-4288 (fax), e-mail: rlessy@akingump.com; and Mary O'Reilly, Esq., FirstEnergy Corp., 76 South Main Street, Akron, OH 44308, (330) 384-5224, (330) 384-3875 (fax), e-mail: meoreilly@firstenergycorp.com; counsel for GPUN, David R. Lewis, Esq., Shaw Pittman, 2300 N Street, NW., Washington, DC 20037-1128, (202) 663-8474, (202) 663-8007 (fax), e-mail: david.lewis@shawpittman.com; and Michael J. Connolly, Esq., Vice President—Law, GPU Service, Inc., 300 Madison Avenue, Morristown, NJ 07962, (973) 455-8245, (973) 993-4801 (fax), e-mail: mconnolly@gpu.com; the General Counsel, U.S. Nuclear Regulatory Commission, Washington, DC 20555 (e-mail address for filings regarding license transfer cases only: ogclt@nyc.gov; and the Secretary of the Commission, U.S. Nuclear Regulatory Commission, Washington, DC 20555-0001, Attention: Rulemakings and Adjudications Staff, in accordance with 10 CFR 2.1313.

The Commission will issue a notice or order granting or denying a hearing request or intervention petition, designating the issues for any hearing that will be held and designating the Presiding Officer. A notice granting a hearing will be published in the Federal Register and served on the parties to the hearing.

As an alternative to requests for hearing and petitions to intervene, by January 3, 2001, persons may submit written comments regarding the license transfer application, as provided for in 10 CFR 2.1305. The Commission will consider and, if appropriate, respond to these comments, but such comments will not otherwise constitute part of the decisional record. Comments should be submitted to the Secretary, U.S. Nuclear Regulatory Commission, Washington, DC 20555-0001, Attention: Rulemakings and Adjudications Staff, and should cite the publication date and page number of this Federal Register notice.

For further details with respect to this action, see the license transfer application dated September 26, 2000, and supplements dated September 27, November 9, and November 14, 2000, available for public inspection at the Commission's Public Document Room, located at One White Flint North, 11555 Rockville Pike (first floor), Rockville, Maryland, and accessible electronically through the ADAMS Public Electronic Reading Room link at the NRC Web site (http://www.nrc.gov).

Dated at Rockville, Maryland this 22nd day of November 2000.
For the Nuclear Regulatory Commission.
John L. Minns,
Project Manager, Decommissioning Section, Project Directorate IV & Decommissioning, Division of Licensing Project Management, Office of Nuclear Reactor Regulation.

[FR Doc. 00-30786 Filed 12-1-00; 8:45 am]

BILLING CODE 7590-01-P